DEPARTMENT OF ENERGY

Federal Energy Regulatory Commission

[Docket No. CP11-58-000]

Venice Gathering System, L.L.C.; Notice of Request Under Blanket Authorization

January 19, 2010.

Take notice that on January 7, 2011, Venice Gathering System, L.L.C. (Venice), 1000 Louisiana, Suite 4300, Houston, Texas 77002, filed in Docket No. CP11-58-000, an application pursuant to sections 157.205 and 157.216(b) of the Commission's Regulations under the Natural Gas Act (NGA) as amended, to abandon in place an existing 20-inch diameter natural gas supply lateral pipeline, offshore Louisiana, under Venice's blanket certificate issued in Docket No. CP97-533-000, et al.,¹ all as more fully set forth in the application which is on file with the Commission and open to the public for inspection.

¹ 81 FERC ¶ 61,183 (1997).

Venice proposes to abandon in place approximately 28.90 miles of 20-inch diameter pipeline which serves as a supply lateral between the South Timbalier Block 265 A platform and the South Timbalier Block 151 compressor platform, offshore Louisiana. Venice states that the abandonment of the supply lateral would not involve the physical removal of any facilities. Venice also states that the four customers currently served via the supply lateral have given their approval for the abandonment. Venice estimates that the proposed abandonment would cost $875,000.

Any questions concerning this application may be directed to D. Kirk Morgan II, Counsel, Bracewell and Giuliani, 2000 K Street, NW., Suite 500, Washington, DC 20006, e-mail: kirk.morgan@bgllp.com, or via telephone at (202) 828-5854 or by facsimile (202) 857-2112.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Kimberly D. Bose,
Secretary.

[FR Doc. 2011-1568 Filed 1-25-11; 8:45 am]

BILLING CODE 6717-01-P